DEPARTMENT OF ENERGY

Federal Energy Regulatory Commission

[Docket No. RP99-480-004]

Texas Eastern Transmission, LP; Notice of Negotiated Rate Filing

January 15, 2003.

Take notice that on January 10, 2003, Texas Eastern Transmission, LP (Texas Eastern) tendered for filing as part of its FERC Gas Tariff, Seventh Revised Volume No. 1, the following tariff sheets to be effective February 10, 2003.

Original Sheet No. 107

Sheet Nos. 108—125

Texas Eastern states that Original Sheet No. 107 filed herewith lists Duke Energy Hanging Rock, LLC (Duke Energy Hanging Rock) as a party to a negotiated rate agreement.

Texas Eastern also states that the negotiated rate agreement between Duke Energy Hanging Rock and Texas Eastern under Rate Schedule MLS-1 is attached to the filing as Appendix A.

Texas Eastern states that copies of its filing have been mailed to all affected customers of Texas Eastern and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link. Comment Date: January 23, 2003.

Magalie R. Salas,
Secretary.

[FR Doc. 03-1738 Filed 1-24-03; 8:45 am]

BILLING CODE 6717-01-P